NUCLEAR REGULATORY COMMISSION

[Docket No. 40-8027]

Notice of Availability of Environmental Assessment and Finding of No Significant Impact for License Amendment for Sequoyah Fuels Corporation, Gore, OK

AGENCY: Nuclear Regulatory Commission.

ACTION: Notice of availability.

FOR FURTHER INFORMATION CONTACT: Myron Fliegel, Project Manager, Fuel Cycle Facilities Branch, Division of Fuel Cycle Safety and Safeguards, Office of Nuclear Material Safety and Safeguards, U.S. Nuclear Regulatory Commission, Washington, DC 20555. Telephone: (301) 415-6629; fax number: (301) 415-5955; e-mail: mhf1@nrc.gov.

SUPPLEMENTARY INFORMATION:

I. Introduction

The Nuclear Regulatory Commission (NRC) is issuing a license amendment to Materials License No. SUB-1010 issued to Sequoyah Fuels Corporation (the licensee), to authorize the licensee to implement a ground water monitoring plan (GWMP) at its Gore, Oklahoma facility. The NRC has prepared an Environmental Assessment (EA) in support of this amendment in accordance with the requirements of 10 CFR part 51. Based on the EA, the NRC has concluded that a Finding of No Significant Impact (FONSI) is appropriate. The amendment will be issued following the publication of this Notice.

II. EA Summary

The proposed action is implementation of the GWMP. The GWMP identifies well, seep, and surface water locations where samples would be collected, the schedule for sample collection, and the constituents that would be analyzed for.

The licensee has been monitoring ground water at the site since the 1970's under requirements in its NRC license and as a result of U.S. Environmental Protection Agency requirements under the Resource Conservation Recovery Act. The GWMP would rely in large part on existing monitoring points. However, 157 existing wells would be abandoned and plugged and 10 new wells would be installed. Abandoned wells would be plugged in accordance with Oklahoma requirements to ensure that they would not provide pathways between aquifers. New wells would be drilled and completed using standard equipment and techniques for shallow wells (the deepest well to be drilled would be approximately 78 feet below ground surface). The licensee estimates that well drilling and plugging activities would be completed in about 4 months.

Drilling additional groundwater monitoring wells would consist of using a drill rig to bore holes into the subsurface and then constructing monitoring wells using PVC piping, with sand and grout placed in-between the PVC pipe and the soil. The licensee has not contracted with a drilling company, pending NRC approval of the GWMP, but expects that the bidder chosen would likely use one or two drill rigs to accomplish this work. Drill cuttings and the small potential for a minor amount of dust may occur while drilling with minor surface disruption. In addition, a number of monitoring wells would be abandoned in accordance with the State of Oklahoma well abandonment criteria. A drill rig may also be used to accomplish this and a small amount of dust may occur. Cement grout would be placed into the borehole to seal the hole in order to prevent surface runoff from migrating down the drill hole.

On June 12, 2003, the licensee requested that the NRC approve the proposed amendment. As a result of NRC staff review, the GWMP was revised several times, and the final version was submitted on February 25, 2005. The licensee's request for the proposed amendment was previously noticed in the Federal Register on August 25, 2003, (68 FR 51033) with a notice of an opportunity to request a hearing.

The staff has prepared the EA in support of the proposed license amendment. The only potential environmental impacts of implementing the GWMP, would be those associated with the necessary physical activities of plugging abandoned wells and drilling and completing several new wells. The drill rigs to be used would generate a moderate amount of noise (most operators wear ear protection) but as the nearest resident is about a half a mile away with a buffer zone of trees, noise impacts are not expected. The drilling and plugging operations may also generate a small amount of dust but the impact offsite would be minor to nonexistent. These impacts would only exist for the short period of time necessary to complete these actions and are very minor.

III. Finding of No Significant Impact

On the basis of the EA, the NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are:

Document | ADAMS accession No. | Date
SFC's Amendment Requests | ML031710847 | 06/12/2003
SFC's Amendment Requests | ML050680226 | 02/25/2005
NRC's Environmental Assessment | ML052200616 | 08/09/2005

If you do not have access to ADAMS or if there are problems in accessing the documents located in ADAMS, contact the NRC's Public Document Room (PDR) Reference staff at 1-800-397-4209, (301) 415-4737, or by e-mail to pdr@nrc.gov.

These documents may also be viewed electronically on the public computers located at the NRC's PDR, O 1 F21, One White Flint North, 11555 Rockville Pike, Rockville, MD 20852. The PDR reproduction contractor will copy documents for a fee.

Dated at Rockville, Maryland this 10th day of August, 2005.
For the Nuclear Regulatory Commission.
Myron Fliegel,
Project Manager, Fuel Cycle Facilities Branch, Division of Fuel Cycle Safety and Safeguards, Office of Nuclear Material Safety and Safeguards.

[FR Doc. E5-4531 Filed 8-18-05; 8:45 am]

BILLING CODE 7590-01-P